FEDERAL RESERVE SYSTEM

Change in Bank Control Notices; Acquisition of Shares of a Bank or Bank Holding Company

The notificants listed below have applied under the Change in Bank Control Act (12 U.S.C. 1817(j)) and § 225.41 of the Board’s Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 18, 2010.

A. Federal Reserve Bank of Atlanta (Clifford Stanford, Vice President) 1000 Peachtree Street, N.E., Atlanta, Georgia 30309:

1. Camp QFP, L.L.L.P., Atlanta, Georgia, and its general partners, Mary L. Camp and Lovell E. Camp, both of Atlanta, Georgia; to acquire outstanding voting shares of FMCB Holdings, Inc., and its subsidiary, First Choice Community Bank, both of Dallas, Georgia.

Board of Governors of the Federal Reserve System, September 29, 2010.
Robert deV. Frierson,
Deputy Secretary of the Board.

[FR Doc. 2010-24890 Filed 10-4-10; 8:45 am]

BILLING CODE 6210-01-S